DEPARTMENT OF TRANSPORTATION

Federal Aviation Administration

14 CFR Part 39

[Docket No. 2000-NM-390-AD; Amendment 39-12659; AD 2002-04-02]

RIN 2120-AA64

Airworthiness Directives; Airbus Model A300 F4-605R Airplanes

AGENCY: Federal Aviation Administration, DOT.

ACTION: Final rule.

SUMMARY: This amendment adopts a new airworthiness directive (AD), applicable to certain Airbus Model A300 F4-605R airplanes, that requires installation of external doublers at frames 29 and 33. The actions specified by this AD are intended to prevent fatigue cracking of certain circumferential joints, which could result in reduced structural integrity of the fuselage in the vicinity of the upper deck cargo door.

DATES: Effective March 28, 2002.

The incorporation by reference of certain publications listed in the regulations is approved by the Director of the Federal Register as of March 28, 2002.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to certain Airbus Model A300 F4-605R airplanes was published in the Federal Register on April 30, 2001 (66 FR 21292). That action proposed to require installation of external doublers at frames 29 and 33.

Comments

Interested persons have been afforded an opportunity to participate in the making of this amendment. Due consideration has been given to the comment received.

Request To Expand Applicability of AD

The commenter, the manufacturer, says that French airworthiness directive 2000-456-323(B), issued by the Direction Générale de l'Aviation Civile (DGAC), applies to both Airbus Model A300 F4-605R production freighters and Model A300 series airplanes that have been converted to freighter configurations by supplemental type certificates (STCs) approved by the DGAC. However, the notice of proposed rulemaking (NPRM) issued by the FAA does not apply to airplanes that have been converted to freighter configurations. The commenter requests that the applicability of the AD be expanded to include Airbus Model A300 series airplanes which have been converted to freighter configurations by STC's approved by the FAA.

The FAA does not concur. The service bulletins cited by the DGAC in the French airworthiness directive apply only to production freighters and not to airplanes converted to freighter configurations in accordance with STCs. To address these converted airplanes, the FAA plans to work with the holders of STCs for those airplanes to evaluate the upper fuselage circumferential joints for fatigue. Depending upon the results, the FAA may issue further rulemaking addressing those airplanes.

Conclusion

After careful review of the available data, including the comment noted above, the FAA has determined that air safety and the public interest require the adoption of the rule as proposed.

Cost Impact

The FAA estimates that 32 Model A300 F4-605R airplanes of U.S. registry will be affected by this AD, that it will take approximately 85 work hours per airplane to accomplish the required actions, and that the average labor rate is $60 per work hour. Required parts will cost approximately $1,820 per airplane. Based on these figures, the cost impact of the AD on U.S. operators is estimated to be $221,440 or $6,920 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2002-04-02 Airbus Industrie: Amendment 39-12659. Docket 2000-NM-390-AD.

Applicability: Model A300 F4-605R airplanes, certificated in any category, except those on which Airbus production Modification 12081 or the modification specified by Airbus Service Bulletin A300-53-6119, Revision 01, dated September 25, 2000, has been installed.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent fatigue cracking of certain circumferential joints, which could result in reduced structural integrity of the fuselage in the vicinity of the upper deck cargo door, accomplish the following:

Installation of Doublers

(a) Before the airplane accumulates 10,000 total flight cycles, or within 6 months after the effective date of this AD, whichever occurs later: Install external doublers at frames 29 and 33, in accordance with Airbus Service Bulletin A300-53-6119, Revision 01, dated September 25, 2000.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Incorporation by Reference

(d) The installation shall be done in accordance with Airbus Service Bulletin A300-53-6119, Revision 01, dated September 25, 2000. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 3: The subject of this AD is addressed in French airworthiness directive 2000-456-323(B), dated November 15, 2000.

Effective Date

(e) This amendment becomes effective on March 28, 2002.

Issued in Renton, Washington, on February 11, 2002.
Vi L. Lipski,
Manager, Transport Airplane Directorate, Aircraft Certification Service.

[FR Doc. 02-3849 Filed 2-20-02; 8:45 am]

BILLING CODE 4910-13-P